NATIONAL SCIENCE FOUNDATION

Notice of Intent to Seek Approval to Reinstate an Information Collection

AGENCY: National Science Foundation.

ACTION: Notice and Request for Comments.

SUMMARY: Under the Paperwork Reduction Act of 1995, Pub. L. 104-13 (44 U.S.C. 3501 et seq.), and as part of its continuing effort to reduce paperwork and respondent burden, the National Science Foundation (NSF) is inviting the general public and other Federal agencies to comment on this proposed information collection.

DATES: Written comments on this notice must be received by October 16, 2000, to be assured of consideration. Comments received after that date will be considered to the extent practicable.

FOR FURTHER INFORMATION CONTACT: Contact Suzanne H. Plimpton, Reports Clearance Officer, National Science Foundation, 4201 Wilson Boulevard, Suite 295, Arlington, Virginia 22230; telephone (703) 292-7556; or send email to splimpto@nsf.gov. Individuals who use a telecommunications device for the deaf (TDD) may call the Federal Information Relay Service (FIRS) at 1-800-877-8339 between 8 a.m. and 8 p.m., Eastern time, Monday through Friday. You also may obtain a copy of the data collection instrument from Ms. Plimpton.

SUPPLEMENTARY INFORMATION:

Title of Collection: Survey of Public Attitudes Toward and Understanding of Science and Technology.

OMB Approval Number: 3145-0033.

Expiration Date of Approval: April 30, 2000.

Type of Request: Intent to seek approval to reinstate an information collection for three years.

Abstract: The proposed continuing information collection is a survey used to monitor public attitudes towards science and technology, including the public's level of scientific understanding and policy preferences on selected issues. This telephone survey has been conducted approximately every two years for more than 20 years, and the information collected with it appears in the congressionally mandated National Science Board biennial report, Science and Engineering Indicators, and other publications. Information on public attitudes and understanding of science and technology is used by government and nongovernment policy makers in developing and designing science and education programs and by researchers in government, industry, and academia. The proposed collection will occur in early 2001.

Expected Respondents

The survey will be conducted by telephone. Using state-of-the-art, computer-assisted telephone interviewing software and random digit dialing, approximately 2000 adults will be contacted and asked a series of questions designed to measure their attitudes towards science and technology and their understanding of scientific concepts.

Burden on the Public

The estimated respondent burden is 1000 hours. This estimate is based on the completion of 2000 telephone interviews with an average length of 30 minutes each.

Comments: Comments are invited on: (a) whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques, e.g., permitting electronic submission of responses.

Dated: August 11, 2000.
Suzanne H. Plimpton,
NSF Reports Clearance Officer.

[FR Doc. 00-20834 Filed 8-15-00; 8:45 am]

BILLING CODE 7555-01-M